DEPARTMENT OF THE INTERIOR

Fish and Wildlife Service

[FWS-HQ-IA-2013-N091; FXIA16710900000P5-123-FF09A30000]

Endangered Species; Marine Mammals; Receipt of Applications for Permit

AGENCY: Fish and Wildlife Service, Interior.

ACTION: Notice of receipt of applications for permit.

SUMMARY: We, the U.S. Fish and Wildlife Service, invite the public to comment on the following applications to conduct certain activities with endangered species, marine mammals, or both. With some exceptions, the Endangered Species Act (ESA) and Marine Mammal Protection Act (MMPA) prohibit activities with listed species unless Federal authorization is acquired that allows such activities.

DATES: We must receive comments or requests for documents on or before May 20, 2013. We must receive requests for marine mammal permit public hearings, in writing, at the address shown in the ADDRESSES section by May 20, 2013.

ADDRESSES: Brenda Tapia, Division of Management Authority, U.S. Fish and Wildlife Service, 4401 North Fairfax Drive, Room 212, Arlington, VA 22203; fax (703) 358-2280; or email managementauthority@fws.gov.

FOR FURTHER INFORMATION CONTACT: Brenda Tapia, (703) 358-2104 (telephone); (703) 358-2280 (fax); managementauthority@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), and the Marine Mammal Protection Act of 1972, as amended (16 U.S.C. 1361 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken. Under the MMPA, you may request a hearing on any MMPA application received. If you request a hearing, give specific reasons why a hearing would be appropriate. The holding of such a hearing is at the discretion of the Service Director.

III. Permit Applications

A. Endangered Species

Applicant: Suzanne Crow, Camilla, GA; PRT-01602B

The applicant requests a captive-bred wildlife registration under 50 CFR 17.21(g) for the radiated tortoise (Astrochelys radiata) and Galapagos tortoise (Chelonoidis nigra) to enhance the species' propagation or survival. This notification covers activities to be conducted by the applicant over a 5-year period.

Applicant: Collins Red Stag Ranch Ltd., Centerville, TX; PRT-99899A

The applicant requests a captive-bred wildlife registration under 50 CFR 17.21(g) for the scimitar-horned oryx (Oryx dammah), addax (Addax nasomaculatus), and dama gazelle (Nanger dama) to enhance the species' propagation or survival. This notification covers activities to be conducted by the applicant over a 5-year period.

Applicant: Collins Red Stag Ranch Ltd., Centerville, TX; PRT-99898A

The applicant requests a permit authorizing interstate and foreign commerce, export, and cull of excess scimitar-horned oryx (Oryx dammah), from the captive herd maintained at their facility, for the purpose of enhancement of the survival of the species. This notification covers activities to be conducted by the applicant over a 5-year period.

Applicant: Audubon Zoological Garden, New Orleans, LA; PRT-680602

The applicant requests renewal of their captive-bred wildlife registration under 50 CFR 17.21(g) for the following families, and species, to enhance their propagation or survival. This notification covers activities to be conducted by the applicant over a 5-year period.

Families

Cebidae

Canidae

Cercopithecidae

Cervidae

Equidae

Felidae (does not include jaguar, ocelot or margay)

Lemuridae

Mustelidae (does not include sea otter)

Rhinocerotidae

Suidae

Tapiridae

Ursidae

Columbidae

Psittacidae

Boidae (does not include Puerto Rico or Mona boa)

Testudinidae

Varanidae

Species

Elephas maximus

Applicant: Man Lui, Pleasanton, CA; PRT-00639B

The applicant requests a captive-bred wildlife registration under 50 CFR 17.21(g) for the radiated tortoise (Astrochelys radiata) to enhance the species' propagation or survival. This notification covers activities to be conducted by the applicant over a 5-year period.

Applicant: Tulsa Zoo, Tulsa, OK; PRT-668691

The applicant requests renewal and amendment of their captive-bred wildlife registration under 50 CFR 17.21(g) for the following families, genera, and species, to enhance their propagation or survival. This notification covers activities to be conducted by the applicant over a 5-year period.

Families

Cercopithecidae

Felidae (does not include jaguar, margay or ocelot)

Hylobatidae

Hominidae

Lemuridae

Tapiridae

Iguanidae

Species

Golden-headed lion tamarin (Leontopithecus chrysomela)

African wild dog (Lycaon pictus)

Rothschild's starling (Leucopsar rothschildi)

Radiated tortoise (Geochelone radiata)

South American river turtle (Podocnemis expansa)

Komodo monitor (Varanus komodoensis)

Asian bonytongue (Scleropages formosus)

Aquatic box turtle (Terrapene coahuila)

Siberian crane (Grus leucogeranus)

Applicant: Lars Petersen, Lodi, WI; PRT-030672

The applicant requests renewal of their captive-bred wildlife registration under 50 CFR 17.21(g) for the golden parakeet (Aratinga Guarouba), to enhance their propagation or survival. This notification covers activities to be conducted by the applicant over a 5-year period.

Applicant: Griffith Bros. Whitetail Ridge Inc., Huntingdon, PA; PRT-01540B

The applicant requests a captive-bred wildlife registration under 50 CFR 17.21(g) for the scimitar-horned oryx (Oryx dammah), Arabian oryx (Oryx leucoryx), addax (Addax nasomaculatus), dama gazelle (Nanger dama), and red lechwe (Kobus leche) to enhance the species' propagation or survival. This notification covers activities to be conducted by the applicant over a 5-year period.

Applicant: The Austin Savannah, Creedmoor, TX; PRT-10982A

The applicant requests amendment of their captive-bred wildlife registration under 50 CFR 17.21(g) to include the following black rhinoceros (Diceros bicornis) and Indian rhinoceros (Rhinoceros unicornis), to enhance their propagation or survival. This notification covers activities to be conducted by the applicant over a 5-year period.

Applicant: Zoo Miami, Miami, FL; PRT-681592

The applicant requests renewal and amendment of their captive-bred wildlife registration under 50 CFR 17.21(g) for the following families, genera, and species, to enhance their propagation or survival. This notification covers activities to be conducted by the applicant over a 5-year period.

Families

Bovidae

Equidae

Felidae (does not include jaguar, margay or ocelot)

Hominidae

Hylobatidae

Lemuridae

Rhinocerotidae

Tapiridae

Gruidae

Psittacidae (does not include thick-billed parrot)

Crocodylidae (does not include American crocodile or American alligator)

Testudinidae

Species

Asian elephant (Elephas maximus)

Koala (Phascolarctos cinereus)

African wild dog (Lycaon pictus)

Andean condor (Vultur gryphus)

Harpy eagle (Harpia harpyja)

Komodo Island monitor (Varanus komodoensis)

Applicant: Columbian Park Zoo, Lafayette, IN; PRT-692213

The applicant requests renewal of their captive-bred wildlife registration under 50 CFR 17.21(g) for the ring-tailed lemur (Lemur catta), black & white ruffed lemur (Varecia variegata variegata), red-ruffed lemur (Varecia variegata ruber), white-handed gibbon (Hylobates lar) and Galapagos tortoise (Chelonoidis nigra) to enhance their propagation or survival. This notification covers activities to be conducted by the applicant over a 5-year period.

Applicant: Lake Superior Zoo, Duluth, MN; PRT-03672A

The applicant requests renewal of their captive-bred wildlife registration under 50 CFR 17.21(g) for the Amur tiger (Panthera tigris altaica), cotton-top tamarin (Saguinus oedipus) and red ruffed lemur (Varecia rubra) to enhance their propagation or survival. This notification covers activities to be conducted by the applicant over a 5-year period.

Applicant: Wade Harrell, Whooping Crane Recovery Plan Coordinator, U.S. Fish and Wildlife Service, Southwest Region, Austwell, TX; PRT-022747

The applicant requests renewal of a permit to export/re-export captive-bred/captive hatched and wild live specimens, captive-bred/wild collected viable eggs, biological samples and salvaged materials from captive-bred/wild specimens of whooping cranes (Grus americana) to Canada, for completion of identified tasks and objectives mandated under the Whooping Crane Recovery Plan. Salvaged materials may include, but are not limited to, whole or partial specimens, feathers, eggs, and egg shell fragments. This notification covers activities to be conducted by the applicant over a 5-year period.

Applicant: White Oak Conservation Holdings LLC, Yulee, FL; PRT-03134B

The applicant requests a captive-bred wildlife registration under 50 CFR 17.21(g) for the cheetah (Acinonyx jubatus), maned wolf (Chrysocyon brachyurus), banteng (Bos javanicus), Dama gazelle (Nanger dama), Somali wild ass (Equus africanus somalicus), Grevy's zebra (Equus grevyi), black rhinoceros (Diceros bicornis), Indian rhinoceros (Rhinoceros unicornis), and Komodo monitor (Varanus komodoensis) to enhance their propagation or survival. This notification covers activities to be conducted by the applicant over a 5-year period.

Multiple Applicants

The following applicants each request a permit to import the sport-hunted trophy of one male bontebok (Damaliscus pygargus pygargus) culled from a captive herd maintained under the management program of the Republic of South Africa, for the purpose of enhancement of the survival of the species.

Applicant: Terence Fitzgerald, Naples, FL; PRT-03133B

Applicant: Peter Wirtz, West Des Moines, IA; PRT-03105B

B. Endangered Marine Mammals

Applicant: Florida Fish and Wildlife Conservation Commission, St. Petersburg, FL; PRT-773494

The applicant requests a permit to take West Indian manatees (Trichechus manatus) of all ages and sexes from the wild in the southeastern United States for the purpose of scientific research. In addition, they would like authorization to import and export biological specimens of all Sirenia species. This notification covers activities to be conducted by the applicant over a 5-year period.

Concurrent with publishing this notice in the Federal Register, we are forwarding copies of the above applications to the Marine Mammal Commission and the Committee of Scientific Advisors for their review.

Brenda Tapia,
Program Analyst/Data Administrator, Branch of Permits, Division of Management Authority.

[FR Doc. 2013-09121 Filed 4-17-13; 8:45 am]

BILLING CODE 4310-55-P